SMALL BUSINESS ADMINISTRATION

[Declaration of Disaster #3452]

State of Louisiana [Amendment #1]

In accordance with a notice received from the Federal Emergency Management Agency, dated October 16, 2002, the above numbered declaration is hereby amended to establish the incident period for this disaster as beginning on October 1, 2002, and continuing through October 16, 2002.

All other information remains the same, i.e., the deadline for filing applications for physical damage is December 2, 2002, and for economic injury the deadline is July 3, 2003.

(Catalog of Federal Domestic Assistance Program Nos. 59002 and 59008).
Dated: October 18, 2002.
Herbert L. Mitchell,
Associate Administrator for Disaster Assistance.

[FR Doc. 02-27122 Filed 10-23-02; 8:45 am]

BILLING CODE 8025-01-P